NUCLEAR REGULATORY COMMISSION

10 CFR Parts 2 and 171

RIN 3150-AI15

NRC Size Standards; Revision Confirmation of Effective Date

AGENCY: Nuclear Regulatory Commission.

ACTION: Direct Final rule: Confirmation of effective date.

SUMMARY: The Nuclear Regulatory Commission (NRC) is confirming the effective date of October 24, 2007, for a direct final rule that was published in the Federal Register on August 10, 2007 (72 FR 44951). This direct final rule amended the NRC's regulations concerning the size standard it uses to qualify an NRC licensee as a small entity under the Regulatory Flexibility Act and has made the same change to its annual fee rule.

DATES: Effective Date: The effective date of October 24, 2007 is confirmed for this direct final rule.

ADDRESSES: Documents related to this rulemaking, including comments received, may be examined at the NRC Public Document Room, Room O-1F23, 11555 Rockville Pike, Rockville, MD 20852. These same documents are available electronically at the NRC's Electronic Reading Room at http://www.nrc.gov/NRC/reading-rm/adams.html. From this site, the public can gain entry into ADAMS, which provides text and image files of NRC's public documents. If you do not have access to ADAMS or if there are problems in accessing the documents located in ADAMS, contact the PDR Reference staff at 1-800-397-4209, 301-415-4737.

FOR FURTHER INFORMATION CONTACT: Cindy K. Bladey, Office of Administration, U.S. Nuclear Regulatory Commission, Washington, DC 20555, telephone (301) 415-6978 (e-mail: cxb6@nrc.gov).

SUPPLEMENTARY INFORMATION: On August 10, 2007, (72 FR 44951), the NRC published a direct final rule amending its regulations in 10 CFR parts 2 and 171 to revise the size standards it uses to qualify an NRC licensee as a small entity under the Regulatory Flexibility Act. This amendment increases the receipts-based small business size standard from $5 million to $6.5 million. In the direct final rule, NRC stated that if no significant adverse comments were received, the direct final rule would become final on October 24, 2007. The NRC did not receive any comments that warranted withdrawal of the direct final rule. Therefore, this rule will become effective as scheduled.

Dated at Rockville, Maryland, this 21st day of September, 2007.
For the Nuclear Regulatory Commission.
Michael T. Lesar,
Chief, Rulemaking, Directives and Editing Branch, Division of Administrative Services, Office of Administration.

[FR Doc. E7-19255 Filed 9-27-07; 8:45 am]

BILLING CODE 7590-01-P